SMALL BUSINESS ADMINISTRATION

Data Collection Available for Public Comments and Recommendations

ACTION: 60-Day notice and request for comments. 8(a) Business Development Program.

SUMMARY: In accordance with the Paperwork Reduction Act of 1995, this notice announces the Small Business Administration's intentions to request approval on a new and/or currently approved information collection.

DATES: Submit comments on or before September 24, 2012.

ADDRESSES: Send all comments regarding whether these information collections are necessary for the proper performance of the function of the agency, whether the burden estimates are accurate, and if there are ways to minimize the estimated burden and enhance the quality of the collections, to Sandra Johnston, Program Analyst, Office of Financial Assistance, Small Business Administration, 409 3rd Street, 8th Floor, Washington, DC 20416.

FOR FURTHER INFORMATION CONTACT: Sandra Johnston, Program Analyst, 202-205-7528 sandra.johnston@sba.gov; Curtis B. Rich, Management Analyst, 202-205-7030 curtis.rich@sba.gov.

SUPPLEMENTARY INFORMATION: Information necessary for Small Business Administration (SBA) to determine whether loan applicant meets SBA's credit and regulatory criteria. Respondents are small business concerns and Development Companies which are certified by SBA to package 504 loans.

Title: “U.S. Small Business Administration Application for Section 504 Loan”.

Description of Respondents: Applicants applying for a SBA Loan.

Form Number: 1244.

Annual Responses: 6,800.

Annual Burden: 15,735.

SUPPLEMENTARY INFORMATION: The servicing agent agreement is executed by the borrower, certified development company and the loan servicing agent. The agreement is primarily used to certify use of loan proceeds, appoint a servicing agent and acknowledge the imposition of various fees.

Title: “Servicing Agent Agreement”.

Description of Respondents: Applicants applying for a SBA Loan.

Form Number: 1506.

Annual Responses: 7,830.

Annual Burden: 7,830.

SUPPLEMENTARY INFORMATION: Small Business Administration SBA's Premier Certified Lenders Program (PCLP) transfers considerable authority and autonomy to Premier Certified Development Companies (Premier CDCs). The PCLP forms (Forms 2233 and 2234) collect loan information to assist the agency in carrying-out its lender, portfolio and program oversight responsibilities. Form 2233 will collect loan loss reserve information to ensure Premier CDC compliance with statutory requirements. SBA will use Form 2234 to approve loan eligibility and track portfolio performance.

Title: “PCLP Quarterly Loan Reserve Report and PCLP Guarantee Request”.

Description of Respondents: CDC's applicants applying for a SBA Loan.

Form Numbers: 2333, 2334, Parts A, B, C.

Annual Responses: 1,700.

Annual Burden: 1,558.

SUPPLEMENTARY INFORMATION: Information collection is needed to ensure that Microloan Program activity meets the statutory goals of assisting mandated target market. The information is used by the reporting participants and the SBA to assist with portfolio management, risk management, loan servicing, oversight and compliance, data management and understanding of short and loan term trends and development of outcome measures.

Title: “Microloan Program Electronic Reporting System (MPERS) (MPERSystem)”.

Description of Respondents: Participants for the Microloan program.

Form Number: N/A.

Annual Responses: 2,500.

Annual Burden: 625.

ADDRESSES: Send all comments regarding whether this information collection is necessary for the proper performance of the function of the agency, whether the burden estimates are accurate, and if there are ways to minimize the estimated burden and enhance the quality of the collection, to Carol Fendler, Director, License & Program, Office of Investment, Small Business Administration, 409 3rd Street, 6th Floor, Washington, DC 20416.

FOR FURTHER INFORMATION CONTACT: Carol Fendler, License & Program, 202-205-7559 carol.fendler@sba.gov; Curtis B. Rich, Management Analyst, 202-205-7030 curtis.rich@sba.gov.

SUPPLEMENTARY INFORMATION: Form 860 is used by Small Business Administration (SBA) examiners to obtain information about assets of small business investment companies (SBICs) that are held in account at financial institutions and about SBIC borrowings from financial institutions. This information, which is collected directly from the financial institutions, provides independent confirmation of asset and liability figures reported to SBA by SBICs as well as supplemental information used to evaluate regulatory compliance and financial condition.

Title: “Financial Institution Confirmation Form”.

Description of Respondents: Small Business Investment Companies.

Form Number: 860.

Annual Responses: 1,500.

Annual Burden: 750.

ADDRESSES: Send all comments regarding whether these information collections are necessary for the proper performance of the function of the agency, whether the burden estimates are accurate, and if there are ways to minimize the estimated burden and enhance the quality of the collection, to Gina Beyer, Supervisor Administrative Officer, Office of Disaster Assistance, Small Business Administration, 409 3rd Street SW., Washington, DC 20416.

FOR FURTHER INFORMATION CONTACT: Gina Byer, Supervisor Administrative Officer, 202-205-6450 gina.beyer@sba.gov Curtis B. Rich, Management Analyst, 202-205-7030 curtis.rich@sba.gov.

SUPPLEMENTARY INFORMATION: SBA is required to survey affected disaster areas within a state upon request by Governor of that state to determine if there is sufficient damage to warrant a disaster declaration. Information is obtained from individuals, businesses, and public officials.

Title: “Disaster Survey Worksheet”.

Description of Respondents: Affected Disaster Areas.

Form Number: 987.

Annual Responses: 3,160.

Annual Burden: 262.

SUPPLEMENTARY INFORMATION: A team of Quality Assurance staff at the Disaster Assistance Center (DASC) will conduct a brief telephone survey of customers to determine their satisfaction with the services received from the (DASC) and the Field Operations Centers. The result will help the Agency to improve where necessary, the delivery of critical financial assistance to disaster victims.

Title: “Disaster Assistance Customer Satisfaction Survey”.

Description of Respondents: Affected Disaster Areas.

Form Number: 2313 CSC, FOC.

Annual Responses: 24,284.

Annual Burden: 2,014.

ADDRESSES: Send all comments regarding whether this information collection is necessary for the proper performance of the function of the agency, whether the burden estimates are accurate, and if there are ways to minimize the estimated burden and enhance the quality of the collection, to Barbara Brannan, Program Analyst, Office of Surety Guarantees, Small Business Administration, 409 3rd Street, 8th Floor, Washington, DC 20416.

FOR FURTHER INFORMATION CONTACT: Barbara Brannan, Program Analyst, 202-205-6545 barbara.brannan@sba.gov Curtis B. Rich, Management Analyst, 202-205-7030 curtis.rich@sba.gov.

SUPPLEMENTARY INFORMATION: The Small Business Administration's (SBA) Surety Bond (SBG) Program was created to encourage surety companies to issue bonds for small contractors. The information collected on these forms is used to evaluate the eligibility of applicants for the program. Changes are being made to SBA Form 990, Surety Bond Guarantee Agreement, SBA Form 991, Surety Bond Guarantee Agreement Addendum, SBA Form 994, Application for Surety Bond Guarantee Assistance, SBA Form 994B, Surety Guarantee Underwriting Review, SBA Form 994F, Schedule of Work in Process, and SBA Form 994H, Default Report, Claim for Reimbursement & Records of Administrative Action. New SBA Form 994 R, Application for Surety Bond Guarantee Assistance—Rider, is being added. SBA is issuing Interim Final Rule, American Recovery and Reinvestment Act: Surety Bond Guarantees; Size Standards (RIN-3245-AF94) that will implement the SBG program changes resulting from the Recovery Act.

Title: “Surety Bond Guarantee Assistance”.

Description of Respondents: Surety Bond Companies.

Form Number's: 990, 991, 994, 994B, 994F, 994H, 994R.

Annual Responses: 17,965.

Annual Burden: 2,080.

ADDRESSES: Send all comments regarding whether this information collection is necessary for the proper performance of the function of the agency, whether the burden estimates are accurate, and if there are ways to minimize the estimated burden and enhance the quality of the collection, to Travis Farris, Assistant Counsel to the Inspector General, Office of Inspector General, Small Business Administration, 409 3rd Street SW., Washington, DC 20416

FOR FURTHER INFORMATION CONTACT: Travis Farris, Assistant Counsel to the Inspector General, 202-205-7178 travis.farris@sba.gov Curtis B. Rich, Management Analyst, 202-205-7030 curtis.rich@sba.gov.

SUPPLEMENTARY INFORMATION: Small Business Administration SBA Form 912 is used to collect information needed to make character determinations with respect to applicants for monetary loan assistance or applicants for participation in SBA programs. The information collected is used as the basis for conducting name checks at national Federal Bureau of Investigations (FBI) and local levels.

Title: “Statement of Personal History”.

Description of Respondents: Character determination for SBA Applicants.

Form Number: 912.

Annual Responses: 142,000.

Annual Burden: 35,000.

Curtis Rich,
Acting Chief, Administrative Information Branch.

[FR Doc. 2012-18080 Filed 7-23-12; 8:45 am]

BILLING CODE P